DEPARTMENT OF DEFENSE

Department of the Navy

Notice of Intent To Grant an Exclusive Patent License; Newcomer Supply, Inc.

AGENCY: Department of the Navy, DoD.

ACTION: Notice.

SUMMARY: The Department of the Navy hereby gives notice of its intent to grant to Newcomer Supply, Inc., a revocable, non-assignable, exclusive license to practice worldwide the Government owned invention described in U.S. Patent No. 6,436,663: Method for the Simultaneous Staining of Tissue Sections for Various Opportunistic Pathogens issued August 20, 2002. The present invention relates to the field of simultaneous staining of tissue for various opportunistic pathogens.

DATES: Anyone wishing to object to the grant of this license has fifteen (15) days from the date of this notice to file written objections along with supporting evidence, if any.

ADDRESSES: Written objections are to be filed with the Office of Technology Transfer, Naval Medical Research Center, 503 Robert Grant Ave., Silver Spring, MD 20910-7500.

FOR FURTHER INFORMATION CONTACT: Dr. Charles Schlagel, Director, Office of Technology Transfer, Naval Medical Research Center, 503 Robert Grant Ave., Silver Spring, MD 20910-7500, telephone 301-319-7428 or e-mail schlagelc@nmrc.navy.mil.

Dated: July 12, 2006.
M.A. Harvison,
Lieutenant Commander, , Judge Advocate General's Corps, U.S. Navy, Federal Register Liaison Officer.

[FR Doc. 06-6352 Filed 7-18-06; 8:45 am]

BILLING CODE 3810-FF-P